DEPARTMENT OF HEALTH AND HUMAN SERVICES

Centers for Disease Control and Prevention

[Program Announcement 02108]

The Recurrence of Neural Tube Defects Affected Pregnancies Educational and Prevention Program Notice of Availability of Funds

A. Purpose

The Centers for Disease Control and Prevention (CDC) announces the availability of fiscal year (FY) 2002 funds for a cooperative agreement program for the support of a prevention recurrence program for neural tube defects (NTDs). This program addresses the “Healthy People 2010” focus area of Birth Defects and Developmental Disabilities.

The purpose of the program is to prevent the recurrence of pregnancies affected by NTDs by increasing maternal preconceptional and periconceptional use of folic acid supplementation through a program targeting women who have had at least one such pregnancy. This program will improve the knowledge and awareness of health care providers, and women of reproductive age about reducing birth defects by promoting the use of folic acid.

Quantitative and measurable outcomes of the program will be in alignment with the performance goal to increase consumption of folic acid among women of reproductive age to prevent serious birth defects.

B. Authority and Catalog of Federal Domestic Assistance Number

This program is authorized under Sections 301, 311, and 317(C) of the Public Health Service Act, (42 U.S.C. Sections 241, 243 and 247b-4), as amended. The Catalog of Federal Domestic Assistance number is 93.184.

C. Eligible Applicants

Assistance will be provided only to applicants that are well-established national, nonprofit organizations with experience in the development of health education strategies targeting women that are at risk of having a NTD-affected pregnancy and educating health care providers about the relationship between folic acid and NTDs, specifically spina bifida.

To be eligible, applicants must:

1. Demonstrate that the organization's mission is explicitly committed to the prevention of NTDs specifically spina bifida, and this may be demonstrated by submission of the charter, articles of incorporation, or other governing documents.

2. Demonstrate that the organization is a nonprofit and recognized as tax exempt under Section 501(c)(3) of the Internal Revenue Code, and this may be demonstrated through inclusion of your Internal Revenue Service determination letter.

3. Demonstrate the organization has the capacity and experience providing health education to women who are at risk of having a NTD-affected pregnancy, and this may be demonstrated through letters of support.

4. Demonstrate that the organization has a national membership of a national network of local organizations, and this may be done through a letter from the organization's leadership which describes the national network.

This information should be placed directly behind the face page (first page) of your application. Applications that do not include the above information will be determined as non responsive and returned without review.

Note: Title 2 of the United States Code section 1611 states that an organization described in section 501(c)(4) of the Internal Revenue Code that engages in lobbying activities is not eligible to receive Federal funds constituting an award, grant or loan.

D. Availability of Funds

Approximately $200,000 is available in FY 2002 to fund one award. It is expected that the award will begin on or about September 1, 2002, and will be made for a 12-month budget period within a project period of up to three years. Funding estimates may change.

Continuation awards within an approved project period will be made on the basis of satisfactory progress as evidenced by required reports and the availability of funds.

Matching funds are not required for this program.

E. Program Requirements

In conducting activities to achieve the purpose of this program, the recipient will be responsible for the activities under “1. Recipient Activities,” and CDC will be responsible for the activities listed under “2. CDC Activities.”

1. Recipient Activities:

a. Develop a public awareness campaign for women who are at risk for recurrence of a NTD-affected pregnancy.

b. Identify women who have had a NTD-affected pregnancy in order to target educational and prevention messages and strategies.

c. Develop and test messages for brochures, posters and other materials to physician and health care providers on the recurrence of NTDs.

d. Educate women who have had a NTD-affected pregnancy and provide them with accurate, sensitive, and timely information on the causes of NTDs and the possibility of preventing future such problems through increased folic acid supplementation.

e. Evaluate the effectiveness of education and supplementation by assessing reported knowledge, consumption and subsequent pregnancy outcomes of the target audience.

f. Develop training of health care providers (HCP) designed to increase the number of women counseled about consuming adequate levels of folic acid.

g. Develop and implement a plan to evaluate the efficacy and effectiveness of this project.

h. Access target populations of: families affected by NTDs (e.g., those living with spina bifida); women of reproductive age who have spina bifida; and women who have experienced miscarriage, therapeutic terminations, or stillbirth due to NTD-affected pregnancies, in order to test messages for efficacy and sensitivity.

i. Develop and disseminate health promotion prevention information through innovative health communication and social marketing techniques related to the prevention of recurrence of NTDs.

2. CDC Activities:

a. Provide technical and scientific consultation and assistance for the development and implementation aspect of this project.

b. Provide technical and scientific consultation in evaluating the indicators of changes in knowledge, attitude and behaviors of women who are at risk for recurrence of NTDs.

c. Participate in the development and evaluation of national surveys of women at risk for a recurrence related pregnancy.

d. Participate in the development of educational materials and information for health care providers to increase their knowledge about folic acid consumption for women who are at risk for recurrence of NTDs.

F. Content

Use the information in the Program Requirements, Other Requirements, and Evaluation Criteria sections to develop the application content. Your application will be evaluated on the criteria listed, so it is important to follow them in laying out your program plan. The narrative should be no more than 15 double-spaced pages, printed on one side, with one-inch margins, and unreduced font.

G. Submission and Deadline

Submit the original and two copies of PHS 5161-1 (OMB Number 0920-0428). Forms are available at the following Internet address: www.cdc.gov/od/pgo/forminfo.htm

On or before 5 p.m. Eastern Time July 10, 2002, submit the application to: Technical Information Management Section, PA 02108, Procurement and Grants Office, Centers for Disease Control and Prevention (CDC), 2920 Brandywine Road, Room 3000, Atlanta, GA 30341-4146.

Deadline: Applications will be considered as meeting the deadline if they are received before 5:00 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disaster, CDC will upon receipt of proper documentation, consider the application as having been received by the deadline. Applications that do not meet the above criteria will not be eligible for competition and will be discarded. Applicants will be notified of their failure to meet the submission requirements.

H. Evaluation Criteria

Applicants are required to provide Measures of Effectiveness that will demonstrate the accomplishment of the various identified objectives of the cooperative agreement. Measures of Effectiveness must relate to the performance goal as stated in section “A. Purpose” of this announcement. Measures must be objective/quantitative and must measure the intended outcome. The Measures of Effectiveness will be submitted with the application and will be an element of evaluation.

Each application will be evaluated individually against the following criteria by an independent review group appointed by CDC.

1. Description of Objectives (30 Points)

The extent that the proposed objectives are clearly stated, realistic, time-phased, and related to the purpose of the project

2. Scope of Proposal (30 points)

Ability of the organization to carry out project activities on a national scope, including data collection and educational intervention in at least two-thirds of States located in the United States

3. Evaluation (15 Points)

The quality and feasibility of the evaluation plan for the various initiatives involved in the project

4. Project Personnel (15 Points)

The extent that professional personnel proposed to be involved in this project are qualified, including experience and evidence of past achievements appropriate to this project

5. Understanding of the Problem (10 Points)

The extent that the applicant understands the requirements, problems and complexities of the project and the adequacy of the operation plans to carry out the various initiatives involved in the project

6. Budget (Not Scored)

The applicant must provide justification for budget expenditures as well as appropriateness to activities proposed in the application. The budget will be evaluated for the extent that it is reasonable, clearly justified, and consistent with the intended use of the cooperative agreement funds.

I. Other Requirements

Technical Reporting Requirements

Provide CDC with original plus two copies of:

7. Semi-annual reports should include:

a. A brief project description.

b. A comparison of the actual accomplishments to the goals and objectives established for the period.

c. In the case that established goals and objectives may not be accomplished or are delayed, documentation of both the reason for the deviation and the anticipated corrective action or a request for deletion of the activity from the project.

d. Other pertinent information, including preliminary findings from the analysis of available data.

e. Financial recap of obligated monies to date as a percentage of total awarded funds.

f. Measures of effectiveness.

8. Financial status report, no more than 90 days after the end of the budget period.

9. Final financial and performance report, no more than 90 days after the end of the project period.

Send all reports to the Grants Management Specialist identified in the “Where to Obtain Additional Information” section of this announcement.

The following additional requirements are applicable to this program. For a complete description of each, see Attachment I of the announcement.

AR-7 Executive Order 12372 Review

AR-8 Public Health System Reporting Requirements

AR-9 Paperwork Reduction Act Requirements

AR-10 Smoke-Free Workplace Requirements

AR-11 Healthy People 2010

AR-12 Lobbying Restrictions

AR-14 Accounting System Requirements

AR-15 Proof of Nonprofit Status

J. Where To Obtain Additional Information

This and other CDC announcements can be found on the CDC home page Internet address— http://www.cdc.gov Click on “Funding” then “Grants and Cooperative Agreements.”

If you have questions after reviewing the contents of all the documents, business management technical assistance may be obtained from: Sheryl Heard, Grants Management Specialist, Assistance & Acquisition Branch B, Procurement and Grants Office, Centers for Disease Control and Prevention, Program Announcement 02108, 2920 Brandywine Road, Room 3000, Atlanta, GA 30341-4146, Telephone number 770-488-2723, Email address slh3@cdc.gov.

For program technical assistance, contact: Annie Latimer, Public Health Advisor, Division of Birth Defects and Developmental Disabilities, Centers for Disease Control and Prevention, 4770 Buford Hwy, NE., Room 1411, Chamblee, GA 30341-4146, Telephone number 770-488-7123, Email address aml1@cdc.gov.

Dated: June 6, 2002.
Edward Schultz,
Acting Director, Procurement and Grants Office, Center for Disease Control and Prevention.

[FR Doc. 02-14727 Filed 6-11-02; 8:45 am]

BILLING CODE 4163-18-P